DEPARTMENT OF ENERGY

Federal Energy Regulatory Commission

Combined Notice of Filings

Take notice that the Commission has received the following Natural Gas Pipeline Rate and Refund Report filings:

Filings Instituting Proceedings

Docket Numbers: RP22-179-000.

Applicants: Rover Pipeline LLC.

Description: § 4(d) Rate Filing: Summary of Negotiated Rate Capacity Release Agreements on 11-2-21 to be effective 11/1/2021.

Filed Date: 11/2/21.

Accession Number: 20211102-5140.

Comment Date: 5 p.m. ET 11/15/21.

Docket Numbers: RP22-180-000.

Applicants: Portland Natural Gas Transmission System.

Description: § 4(d) Rate Filing: NS Power to NS Mktg—Neg Rate Amendment to be effective 11/1/2021.

Filed Date: 11/2/21.

Accession Number: 20211102-5159.

Comment Date: 5 p.m. ET 11/15/21.

Docket Numbers: RP22-181-000.

Applicants: Northern Border Pipeline Company.

Description: Compliance filing: Request for Waiver—Reservation of Capacity to be effective N/A.

Filed Date: 11/2/21.

Accession Number: 20211102-5169.

Comment Date: 5 p.m. ET 11/15/21.

Docket Numbers: RP22-182-000.

Applicants: Discovery Gas Transmission LLC.

Description: Compliance filing: NAESB Version 3.2 Compliance Filing (Order 587-Z) to be effective 6/1/2022.

Filed Date: 11/3/21.

Accession Number: 20211103-5030.

Comment Date: 5 p.m. ET 11/15/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2021.
Kimberly D. Bose,
Secretary.

[FR Doc. 2021-24478 Filed 11-8-21; 8:45 am]

BILLING CODE 6717-01-P